ENVIRONMENTAL PROTECTION AGENCY

[FRL-8163-6]

SES Performance Review Board; Membership

AGENCY: Environmental Protection Agency (EPA).

ACTION: Notice.

SUMMARY: Notice is hereby given of the membership of the EPA Performance Review Board.

DATES: This is effective on May 1, 2006.

FOR FURTHER INFORMATION CONTACT: Judith M. King, Director, Executive Resources Staff, 3611A, Office of Human Resources, Office of Administration and Resources Management, Environmental Protection Agency, 1200 Pennsylvania Avenue, NW., Washington, DC 20460 (202) 564-0400.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the EPA Performance Review Board are:

William G. Laxton (Chair), Acting Director, Office of Human Resources, Office of Administration and Resources Management

George W. Alapas, Deputy Director for Management, National Center for Environmental Assessment, Office of Research and Development

Gerald M. Clifford, Deputy Assistant Administrator, Office of International Affairs

Kerrigan G. Clough, Deputy Regional Administrator, Region 8

Howard F. Corcoran, Director, Office of Grants and Debarment, Office of Administration and Resources Management

Nanci E. Gelb, Deputy Director, Office of Ground Water and Drinking Water, Office of Water

Robin L. Gonzalez, Director, National Technology Services Division-RTP, Office of Environmental Information

Gregory A. Green, Deputy Director, Office of Air Quality Planning and Standards, RTP, Office of Air and Radiation

Sally C. Gutierrez, Director, National Risk Management Research Laboratory, Cincinnati, Office of Research and Development

Susan B. Hazen, Principal Deputy Assistant Administrator, Office of Prevention, Pesticides and Toxic Substances

Karen D. Higgenbotham (Ex-Officio), Director, Office of Civil Rights, Office of the Administrator

Nancy J. Marvel, Regional Counsel, Region 9, Office of Enforcement and Compliance Assurance

Kathleen S. O'Brien, Deputy Director, Office of Planning, Analysis, and Accountability, Office of the Chief Financial Officer

James T. Owens III, Director, Office of Administration and Resources Management, Region 1

George Pavlou, Director, Emergency and Remedial Response Division, Region 2

Stephen G. Pressman, Associate General Counsel (Civil Rights), Office of General Counsel

Elizabeth Southerland, Director, Assessment and Remediation Division, Office of Solid Waste and Emergency Response

Cecilia M. Tapia, Director, Superfund Division, Region 7

Louise P. Wise, Principal Deputy Associate Administrator for Policy, Economics and Innovation, Office of the Administrator

Judith King (Executive Secretary), Acting Director, Executive Resources Staff, Office of Human, Resources, Office of Administration and Resources Management

Dated: April 21, 2006.
Sherry A. Kaschak,
Acting Assistant Administrator for Administration and Resources Management.

[FR Doc. E6-6537 Filed 4-28-06; 8:45 am]

BILLING CODE 6560-50-P